DEPARTMENT OF ENERGY

Federal Energy Regulatory Commission

[Project Nos. 11437-016]

Hydro Matrix Limited Partnership; Notice of Availability of Environment Assessment

March 30, 2007.

In accordance with the National Environmental Policy Act of 1969 and the Federal Energy Regulatory Commission's regulations, the Office of Energy Projects has reviewed the Hydro Matrix Limited Partnership's (licensee) application requesting the Commission's authorization to amend its license for the Jordan Dam Hydroelectric Project. The licensee proposes to install two generating units rated at 2200 kW, rather than the authorized eighty 100 kW units. This would reduce the generating capacity of the project from 8.0 MW to 4.4 MW, and reduce the hydraulic capacity of the project form 2320 cubic feet per second (cfs) to 1200 cfs. The unconstructed project is located at the U.S. Army Corps of Engineers (Corps) B. Everett Jordan Dam on the Haw River, in Chatham County, North Carolina. An environmental assessment (EA) has been prepared.

In the EA, the Commission's staff concludes that approval of the licensee's application would not constitute a major federal action significantly affecting the quality of the human environment. No ground disturbing activities are involved with the licensee's proposal.

A copy of the EA is attached to a Commission order titled “Order Amending License and Revising Annual Charges,” issued March 30, 2007, and is available at the Commission's Public Reference Room. A copy of the EA may also be viewed on the Commission's Web site at http://www.ferc.gov using the “elibrary” link. Enter the docket number (P-11437) in the docket field to access the document. For assistance, call (202) 502-8222 or (202) 502-8659 (for TTY).

Philis J. Posey,
Acting Secretary.

[FR Doc. E7-6324 Filed 4-4-07; 8:45 am]

BILLING CODE 6717-01-P